AGENCY FOR INTERNATIONAL DEVELOPMENT

Board for International Food and Agricultural Development; One Hundred and Fifty-Ninth Meeting; Notice of Meeting

Pursuant to the Federal Advisory Committee Act, notice is hereby given of the one hundred and fifty-ninth meeting of the Board for International Food and Agricultural Development (BIFAD). The meeting will be held from 8:30 a.m. to 4 p.m. on March 3, 2010 at the National Press Club located at 529 14th St., NW., Washington, DC. “Higher Education: A Critical Partner in Global Agricultural Development” will be the central theme of BIFAD's initiatives and the March meeting.

Dr. Robert Easter, Chairman of BIFAD, will preside over the proceedings. Dr. Easter is Interim Chancellor for the University of Illinois at Urbana-Champaign.

The confirmation of Dr. Rajiv Shah as USAID's new administrator will define the work of BIFAD, consistent with BIFAD's legislative mandate, for the foreseeable future. Accordingly, the 159th BIFAD meeting will attempt to respond to Dr. Shah's priorities. Dr. Shah brings a strong background in global food security issues. Within this context comes the recognition that only through broad-based partnerships and multidisciplinary approaches will the US achieve priority foreign assistance goals in a dramatically changed development world. It is in the spirit of the Title XII mandates and in view of today's development realities, underpinned by complex socio-economic conditions and regional conflicts, that BIFAD is leading as a “gateway” to the university community.

It is expected that Dr. Shah will participate in the meeting and present to the Board his vision and priorities for the Agency. If the situation in Haiti or other unanticipated contingencies preclude him from attending, Karen Turner, the Director of the Office of Development Partners or Carol Grigsby, the Office's Deputy Director, will represent the Administrator. In the event that new BIFAD members are announced, there is a possibility that they could be officially sworn in by Administrator Shah, or Director Turner or Deputy Director Grigsby.

The Board and USAID have been collaborating closely to develop a Memorandum of Understanding to define our strategic partnership. The purpose of the MOU is to set forth the understandings and intentions of USAID and BIFAD with regard to shared goals and to mobilize the capacities of U.S. universities to implement program components under Section 103 (Agriculture, Rural Development and Nutrition) and 103A (Agriculture Research) of the Foreign Assistance Act. Five key areas were identified for maximum collaboration: USG Food Security Strategy and Program; USG Global Climate Change Strategy and Program; Education and Training for Youth; Afghanistan/Pakistan Agriculture Strategy and Program; and Rebuilding USAID Technical Capacity. The MOU was vetted during the last BIFAD meeting in October. It should be ready for signing during the 159th meeting with a brief ceremony.

Next, Gebisa Ejeta, last year's World Food Prize recipient, will present to the Board a presentation, “Food Security: the Science, Sociology and Economics of Food Production and Access to Food.” He will emphasize the critical need to strengthen science-based thinking within development planning and implementation and rational decision-making into the policy formulation process. Dr. Ejeta is currently at Purdue University. Dr. Easter will also be making a presentation, with possible responder to Dr. Ejeta.

During 2009, the Board held a number of sessions and activities related to the agricultural strategy for Afghanistan and how universities can help USAID turn battle space into development space. This session will provide an update on the Trilateral Af-Pak process, building towards a conference later this spring in Doha, Qatar. The conference will bring together university representatives managing on-the-ground agricultural projects in Afghanistan with key Afghans and Pakistanis, to develop a 5 year plan for integrating long-term agricultural training and capacity building into the agricultural development strategy.

The devastating earthquake in Haiti will be the focus of a session to demonstrate how BIFAD and universities can bring value to USAID on Haiti, as well as the Caribbean region. The session will be led by Board member Dr. Elsa Murano, University of Texas. Walter Bowen, Acting Director, International Programs. Institute of Food and Agricultural Sciences, University of Florida, will share some experiences University of Florida has had in Haiti. His project, Watershed Initiative for National Natural Environmental Resources, is aimed at implementing broad scale investments in sustainable natural resource management at the scale and density needed to produce future positive landscape level reductions in environmental, infrastructural, and economic vulnerability. The Latin America and Caribbean Bureau (LAC) at USAID will be intimately involved, and there will be discussion on wider application throughout the Caribbean region.

Concluding the morning session, John Becker, USAID Office of Development Partners, will make a presentation and lead discussion on application of the Bumpers Amendment. The Bumpers Amendment forbids the United States Agency for International Development (USAID) from giving money to any program that would increase the production of a crop that could compete with the United States on the world market.

After an executive luncheon (closed to the public) the Board will re-convene. Scheduled as the afternoon's first session will be a follow-on to the Board's efforts to highlight the critical role that Minority Serving Institutions continue to play in international agricultural development, particularly in improving the livelihood of small farmers. William DeLauder, Board member and President-Emeritus of Delaware State University, will lead the session. This discussion is being designed to open a new dialogue and begin exploring effective partnering with USAID.

Following the MSI panel, Montague Demment, Director, Global Livestock Collaborative Research Support Program (CRSP), will lead a discussion on the Borlaug Leap Program and other BIFAD long-term training activities, in cooperation with USAID's Economic Growth, Agricultural, and Trade Bureau (EGAT). These are very important programs that help build human and institutional capacity in agriculture.

Concluding the afternoon session, the Board will hear an update on BIFAD's efforts to establish a Joint Committee on Operations, as called for in Title XII, to increase the technical capacity of the Board. Such a Committee would replace the Strategic Partnership for Agricultural Research and Education (SPARE). Ray Miller, Director of International Programs, University of Maryland, will lead the discussion.

The Board meeting is open to the public. The Board welcomes open dialogue to promote greater focus on critical issues facing USAID, the role of universities in development, and applications of U.S. scientific, technical and institutional capabilities to international agriculture. Note on Public Comments: Due to time constraints public comments to the Board will be limited to three (3) minutes to accommodate as many as possible. It is preferred to have requests for comments submitted to the Board in writing. Two periods for public comment will be provided during the Board meeting—just before lunch and adjournment.

Those wishing to attend the meeting or obtain additional information about BIFAD should contact Dr. Ronald S. Senykoff, Executive Director and Designated Federal Officer for BIFAD. Write him in care of the U.S. Agency for International Development, Ronald Reagan Building, Office of Development Partners, 1300 Pennsylvania Avenue, NW., Room 6.7-153, Washington, DC 20523-2110 or telephone him at (202) 712-0218 or fax (202) 216-3124.

Ronald S. Senykoff,
Executive Director and USAID Designated Federal Officer for BIFAD, Office of Development Partners, U.S. Agency for International Development.

[FR Doc. 2010-4285 Filed 3-1-10; 8:45 am]

BILLING CODE P